DEPARTMENT OF HOMELAND SECURITY

Office of the Secretary

[Docket No. DHS-2009-0011]

Privacy Act of 1974, as Amended; Computer Matching Program (Department of Homeland Security United States Citizenship and Immigration Services (DHS/USCIS)-New York Department of Labor (NY-DOL))

AGENCY: United States Citizenship and Immigration Services, DHS.

ACTION: Notice of the renewal of an existing computer matching program, which is scheduled to expire on July 6, 2009.

SUMMARY: In accordance with the provisions of the Privacy Act, as amended, this notice announces the renewal of a computer matching program that Department of Homeland Security United States Citizenship and Immigration Services (DHS/USCIS) is currently conducting with New York Department of Labor (NY-DOL).

DATES: The matching program will become effective 30 days after publication of this notice in the Federal Register. The matching program will continue for 18 months from the effective date and may be extended for an additional 12 months thereafter, if certain conditions are met.

ADDRESSES: Interested parties may comment on this notice by either telefaxing to (703) 483-2999 or writing to the Privacy Office, Department of Homeland Security, Washington, DC 20528. All comments received will be available for public inspection at this address.

FOR FURTHER INFORMATION CONTACT: For general questions please contact Donald Hawkins (202-272-8000), USCIS Privacy Officer, 20 Massachusetts Avenue, NW., Washington, DC 20529. For privacy issues please contact: Mary Ellen Callahan (703-235-0780), Chief Privacy Officer, Privacy Office, U.S. Department of Homeland Security, Washington, DC 20528.

SUPPLEMENTARY INFORMATION:

A. General

The Computer Matching and Privacy Protection Act of 1988 (Pub. L. 100-503), amended the Privacy Act (5 U.S.C. 552a) by describing the conditions under which computer matching involving the Federal government could be performed and adding certain protections for individuals applying for, and receiving, Federal benefits. Section 7201 of the Omnibus Budget Reconciliation Act of 1990 (Pub. L. 101-508) further amended the Privacy Act regarding protections for such individuals.

The Privacy Act, as amended, regulates the use of computer matching by Federal agencies when records in a system of records are matched with other Federal, State, or local government records. It requires Federal agencies involved in computer matching programs to:

(1) Negotiate written agreements with the other agency or agencies participating in the matching programs;

(2) Obtain the approval of the matching agreement by the Data Integrity Boards (DIB) of the participating Federal agencies;

(3) Publish notice of the computer matching program in the Federal Register;

(4) Furnish detailed reports about matching programs to Congress and OMB;

(5) Notify applicants and beneficiaries that their records are subject to matching; and

(6) Verify match findings before reducing, suspending, terminating, or denying an individual's benefits or payments.

B. DHS Computer Matches Subject to the Privacy Act

DHS/USCIS has taken action to ensure that all of DHS's computer matching programs comply with the requirements of the Privacy Act, as amended.

C. Purpose of the Matching Program

The purpose of this agreement is to provide the NY-DOL with electronic access to immigration status information contained within DHS/USCIS' Verification Information System (VIS). This access will enable the NY-DOL to determine whether an applicant is eligible for benefits under the Unemployment Compensation (UC) program administered by NY-DOL.

D. Authority for Conducting the Matching Program

NY-DOL seeks access to the information contained in the DHS-USCIS VIS database to execute its obligations under Section 1137 of the Social Security Act (42 U.S.C. 1320b-7(a), et seq.) and New York Unemployment Insurance Law Article 18, Title 7, section 590.

USCIS maintains the VIS database pursuant to Section 121 of the Immigration Reform and Control Act (IRCA) of 1986, Public Law 99-603, as amended by the Personal Responsibility and Work Opportunity Reconciliation Act of 1996 (PRWORA), Public Laws 104-193 Stat. 2168 (1996). These statutes require USCIS to make VIS available to State agencies which administer related benefits.

E. Categories of Records and Individuals Covered by the Matching Program

The USCIS VIS System of Records Notice (SORN) details the records and individuals relevant to this agreement. The VIS SORN can be found at 73 FR 75445, December 11, 2008.

Categories of Individuals Covered

This system contains information on individuals, both U.S. citizens and non-U.S. citizens covered by provisions of the Immigration and Nationality Act of the United States including but not limited to individuals who have been lawfully admitted to the United States, individuals who have been granted U.S. citizenship and individuals who have applied for other immigration benefits pursuant to 8 U.S.C. 1103 et seq. In addition, it contains information on cohabitants and relatives of subjects of SAVE background investigations conducted for OPM. This system also contains information on individuals, both U.S. citizens and non-U.S. citizens, whose employers have submitted to the E-Verify program their identification information. This system also contains information on individuals, both U.S. citizens and non-U.S. citizens, who have been victims of identity theft and have chosen to lock their Social Security number from further use in the E-Verify program.

Categories of Records Covered

• Data originating from the USCIS Central Index System (CIS), including the following information about the individual who comes before USCIS: Alien Registration Number (A-Number), name (last, first, middle), date of birth, date entered United States (entry date), country of birth, class of admission code, File Control Office code, Social Security Number, Admission Number (I-94 Number), provision of law code cited for employment authorization, office code where the authorization was granted, date employment authorization decision issued, date employment authorization may begin (start date), date employment authorization expires (expiration date), and date employment authorization was denied (denial date).

• Data originating from the U.S. Customs and Border Protection Treasury Enforcement Communications System (TECS), including the following information about the individual: A-Number, name (last, first, middle), date alien's status was changed (status change date), date of birth, class of admission code, date admitted until, country of citizenship, port of entry, date entered United States (entry date), departure date, I-94 Number, visa number, and transaction link to passport photographs contained in TECS.

• Data originating from the Redesigned Naturalization Automated Casework System (RNACS). RNACS is a database that includes information from individuals who have filed applications for naturalization, citizenship, or to replace naturalization certificates under the Immigration and Nationality Act, as amended, and/or who have submitted fee payments with such applications. The naturalization records in the RNACS database house information from 1986 to 1996. Information that identifies individuals named above, e.g., name, address, date of birth, and alien registration number (A-Number). Records in the system may also include information such as Date documents were filed or received in CIS, Status, class of admission codes, and locations of record.

• Data originating from the Computer Linked Applications Information Management System (CLAIMS 4) including the following information about the individual: Name (first, last), date of birth, Social Security Number, and naturalization date.

• Data originating from the USCIS Biometric Storage System (BSS), including: receipt number, name (last, first, middle), date of birth, country of birth, A-Number, form number (for example Form I-551, Lawful Permanent Resident card, or Form I-766, Employment Authorization Document), expiration date, and photo.

• Data originating from the USCIS Computer Linked Application Information Management System (CLAIMS 3), including: receipt number, name (last, first, middle), date of birth, country of birth, class of admission code, A-Number, I-94 number, date entered United States (entry date), and `valid-to' date.

• Data originating from the U.S. Immigration and Customs Enforcement (ICE) Student and Exchange Visitor Information System (SEVIS), including: SEVIS Identification Number (SEVIS ID), name (last, first, middle), date of birth, country of birth, class of admission code, I-94 number, date entered United States (entry date), and `valid-to' date.

• Data originating from the Social Security Administration (SSA), including: Confirmation of employment eligibility based on SSA records, tentative non-confirmation of employment eligibility and the underlying justification for this decision, and Final non-confirmation of employment eligibility.

• Information collected from the benefit applicant by a Federal, State, local or other benefit-issuing agency to facilitate immigration status verification that may include the following about the benefit applicant: Receipt Number, A-Number, I-94 Number, name (last, first, middle), date of birth, user case number, DHS document type, DHS document expiration date, SEVIS ID and visa number.

• Information collected from the benefit-issuing agency about users accessing the system to facilitate immigration status verification that may include the following about the agency: agency name, address, point(s) of contact, contact telephone number, fax number, e-mail address, type of benefit(s) the agency issues (i.e. unemployment insurance, educational assistance, driver licensing, etc.).

• Information collected from the benefit-issuing agency about the individual agency user including: name (last, first, middle), phone number, fax number, e-mail address, user ID for users within the agency.

• System-generated response, as a result of the SAVE verification process including: case verification number, entire record in VIS database as outlined above, including all information from CIS, SEVIS, TECS, and CLAIMS 3 and with the exception of the biometric information (photo) from BSS, and immigration status (e.g., Lawful Permanent Resident).

• Information collected from the employee by the employer user to facilitate employment eligibility verification may include the following about the Individual employee: receipt number, visa number, United States or foreign passport number, passport card number, A-Number, I-94 Number, name (last, first, middle initial, maiden), Social Security Number, date of birth, date of hire, claimed citizenship status, acceptable form I-9 document type, acceptable form I-9 Document expiration date, and passport, passport card, or visa photo.

• Information collected about the employer, including: company name, physical address, employer identification number, North American Industry Classification System code, Federal contracting agency, Federal contract identifier, number of employees, number of sites, parent company or corporate company, name of contact(s), phone number, fax number, and e-mail address.

• Information collected about the employer user (e.g., identifying users of the system at the employers), including: Name, phone number, fax number, e-mail address, and user ID.

• System-generated response information, resulting from the E-Verify employment eligibility verification process, including: Case verification number; VIS generated response: Employment authorized, tentative non-confirmation, case in continuance, final non-confirmation, employment unauthorized, or DHS No Show; disposition data from the employer includes resolved unauthorized/terminated, self terminated, invalid query, employee not terminated, resolved authorized, and request additional verification, which includes why additional verification is requested by the employer user.

• Information collected directly from individuals who have been the victim of identity theft who wish to prevent or deter further use of stolen identities in E-Verify, including: police reports, name, Social Security Number, street address, e-mail address, and other identity authentication information relevant to preventing or deterring further use of stolen identities.

F. Inclusive Dates of the Matching Program

The matching program will become effective 30 days after publication of this notice in the Federal Register. The matching program will continue for 18 months from the effective date and may be extended for an additional 12 months thereafter, if certain conditions are met.

Dated: May 27, 2009.
Mary Ellen Callahan,
Chief Privacy Officer, U.S. Department of Homeland Security.

[FR Doc. E9-12936 Filed 6-2-09; 8:45 am]

BILLING CODE 9111-97-P